LEGAL SERVICES CORPORATION

45 CFR Parts 1600, 1630, and 1631

Definitions; Cost Standards and Procedures; Purchasing and Property Management

AGENCY: Legal Services Corporation.

ACTION: Proposed rule; Extension of comment period.

SUMMARY: The Legal Services Corporation (“LSC”) issued a proposed rule in the Federal Register of October 28, 2016 [FR Doc. 2016-25831], concerning proposed amendments to its regulations governing definitions, cost standards and procedures, and purchasing and property management. This notice extends the comment period for 30 days to January 26, 2017.

DATES: Comments must be submitted by January 26, 2017.

ADDRESSES: You may submit comments by any of the following methods:

Email: lscrulemaking@lsc.gov. Include “Parts 1630/1631 Rulemaking” in the subject line of the message.

Fax: (202) 337-6519, ATTN: Parts 1630/1631 Rulemaking.

Mail: Stefanie K. Davis, Assistant General Counsel, Legal Services Corporation, 3333 K Street NW., Washington, DC 20007, ATTN: Parts 1630/1631 Rulemaking.

Hand Delivery/Courier: Stefanie K. Davis, Assistant General Counsel, Legal Services Corporation, 3333 K Street NW., Washington, DC 20007, ATTN: Parts 1630/1631 Rulemaking.

Instructions: Electronic submissions are preferred via email with attachments in Acrobat PDF format. LSC may not consider written comments sent via any other method or received after the end of the comment period.

FOR FURTHER INFORMATION CONTACT: Stefanie K. Davis, Assistant General Counsel, Legal Services Corporation, 3333 K Street NW., Washington, DC 20007, (202) 295-1563 (phone), (202) 337-6519 (fax), sdavis@lsc.gov.

SUPPLEMENTARY INFORMATION: LSC is extending the public comment period stated in the Federal Register notice for this rulemaking. 81 FR 75006, Oct. 28, 2016. In that notice, LSC proposed amendments to its regulations governing definitions (45 CFR part 1600), cost standards and procedures (45 CFR part 1630), and purchasing and property management (45 CFR part 1631). LSC has received requests for an extension of the comment period to allow interested parties and stakeholders additional time to develop their comments on the proposed rulemaking, including obtaining data about the potential effects of proposed changes. LSC is therefore extending the comment period for 30 days, from December 27, 2016 to January 26, 2017.

Dated: December 16, 2016.
Stefanie K. Davis,
Assistant General Counsel.

[FR Doc. 2016-30717 Filed 12-20-16; 8:45 am]

BILLING CODE 7050-01-P